DEPARTMENT OF COMMERCE

Bureau of Industry and Security

Agency Information Collection Activities; Submission to the Office of Management and Budget (OMB) for Review and Approval; Comment Request; Miscellaneous Licensing and Reporting Responsibilities and Enforcement

AGENCY: Bureau of Industry and Security, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 17, 2026.

ADDRESSES: Interested persons are invited to submit comments by email to Nancy Kook, IC Liaison, Bureau of Industry and Security, at PRA@bis.doc.gov or to PRAcomments@doc.gov). Please reference OMB Control Number 0694-0122 in the subject line of your comments. Do not submit Confidential Business Information or otherwise sensitive or protected information.

FOR FURTHER INFORMATION CONTACT: Requests for additional information or specific questions related to collection activities should be directed to Nancy Kook, IC Liaison, Bureau of Industry and Security, phone 202-482-2440 or by email at PRA@bis.doc.gov.

SUPPLEMENTARY INFORMATION:

I. Abstract

This collection of information involves miscellaneous licensing and reporting requirements as well as enforcement activities that are associated with the export, reexport or transfer of items controlled by the Department of Commerce's Bureau of Industry and Security (BIS). BIS is revising the title of this collection of information to better reflect the scope of requirements associated with licensing and enforcement found in Parts 744, 748 and 758 of the Export Administration Regulations (EAR). Some of these activities involve submission of documents to BIS as well as exchange of documents among parties in the export transaction to ensure that each party understands its obligations under U.S. law. Others involve writing certain export control statements on shipping documents or reporting unforeseen changes in shipping and disposition of exported commodities. Many of these activities are needed by the Office of Export Enforcement and U.S. Customs and Border Protection (CBP) to document export transactions, enforce the EAR and protect the National Security of the United States.

II. Method of Collection

Electronic.

III. Data

OMB Control Number: 0694-0122.

Form Number(s): None.

Type of Review: Regular submission, revision of a currently approved information collection.

Affected Public: Business or other for-profit organizations.

Estimated Number of Respondents: 2,224,151.

Estimated Time per Response: 5 seconds to 2 hours.

Estimated Total Annual Burden Hours: 97,456.

Estimated Total Annual Cost to Public: 0.

Respondent's Obligation: Voluntary.

Legal Authority: Export Control Reform Act (ECRA) of 2018.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Under Secretary for Economic Affairs, Commerce Department.

[FR Doc. 2025-23439 Filed 12-18-25; 8:45 am]

BILLING CODE 3510-33-P